DEPARTMENT OF ENERGY

Federal Energy Regulatory Commission

[Docket No. EL14-43-000]

East Texas Electric Cooperative, Inc.; Sam Rayburn Electric Cooperative, Inc.; Tex-La Electric Cooperative of Texas, Inc. v. Entergy Texas, Inc.: Notice of Complaint

Take notice that on April 30, 2014, pursuant to Rule 206 of the Federal Energy Regulatory Commission's (Commission) Rules of Practice and Procedure, 18 CFR 385.206 and sections 206 and 306 of the Federal Power Act, 16 USC 824(e) and 825(e), East Texas Electric Cooperative, Inc., Sam Rayburn Electric Cooperative, Inc., and Tex-La Electric Cooperative of Texas, Inc. (collectively, ETEC or Complainant) filed a formal complaint against Entergy Texas, Inc. (Entergy Texas or Respondent) alleging that Entergy Texas is violating the Second Amended and Restated Agreement for Partial Requirements Wholesale Service between ETEC and Entergy Texas, by calculating ETEC's share of Entergy Texas' 2013 rough production cost estimate payments in a manner inconsistent with the Agreement. ETEC request that the Commission order Entergy Texas to determine ETEC's share of the 2013 bandwidth payments consistent with the Agreement and with Entergy Texas' past practice.

The Complainant certifies that copies of the complaint were served on the Respondent as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5 p.m. Eastern Time on May 20, 2014.

Dated: May 2, 2014.
Kimberly D. Bose,
Secretary.

[FR Doc. 2014-10585 Filed 5-7-14; 8:45 am]

BILLING CODE 6717-01-P